DEPARTMENT OF ENERGY

Federal Energy Regulatory Commission

[Docket No. RP96-359-030]

Transcontinental Gas Pipe Line Corporation; Notice of Service Agreement

June 6, 2006.

Take notice that on May 31, 2006, Transcontinental Gas Pipe Line Corporation (Transco) tendered for filing a copy of the executed fourth amendment to the service agreement with Washington Gas Light Company (WGL) that contains a recalculated negotiated delivery point facilities surcharge (Facilities Surcharge) under Transco's Rate Schedule FT for the costs of the Rock Creek Meter Station, a delivery point to Washington Gas Light Company (WGL). The effective date of this revised Facilities Surcharge is July 1, 2006.

Any person desiring to protest this filing must file in accordance with Rule 211 of the Commission's Rules of Practice and Procedure (18 CFR 385.211). Protests to this filing will be considered by the Commission in determining the appropriate action to be taken, but will not serve to make protestants parties to the proceeding. Such protests must be filed on or before the date as indicated below. Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible online at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on June 13, 2006.

Magalie R. Salas,
Secretary.

[FR Doc. E6-9117 Filed 6-9-06; 8:45 am]

BILLING CODE 6717-01-P